ENVIRONMENTAL PROTECTION AGENCY

[OPP-00640; FRL-6489-1]

Inaugural Meeting of the Tribal Pesticide Program Council (TPPC); Notice of Public Meeting

AGENCY: Environmental Protection Agency (EPA).

ACTION: Notice of public meeting.

SUMMARY: The Tribal Pesticide Program Council (TPPC) will hold a 2-day meeting, beginning on January 25, 2000 and ending on January 26, 2000. This notice announces the location and times for the meeting and sets forth the tentative agenda topics.

DATES: The meeting will be held on January 25, 2000 from 8 a.m. to 5 p.m., and January 26, 2000 from 8 a.m. to 4 p.m. The Tribal Caucus will hold sessions that are closed to EPA and the General Public on January 25, 2000 from 2 p.m. to 4:30 and January 26, 2000 from 3 p.m. to 3:30 p.m..

Requests to participate in the meeting may be received until January 25, 2000.

ADDRESSES: The meeting will be held at the Embassy Suites Hotel - Crystal City, the Capitol Hill Room, 1300 Jefferson Davis Highway, Arlington, VA.

Requests to participate may be submitted by mail, electronically, or in person. Please follow the detailed instructions for each method as provided in Unit III. of the “SUPPLEMENTARY INFORMATION.” To ensure proper receipt by EPA, your request must identify docket control number OPP-00640 in the subject line on the first page of your response.

FOR FURTHER INFORMATION CONTACT: Lillian Wilmore, TPPC Facilitator, P.O. Box 470829; Brookline Village, MA. 02447-0829; telephone number (617) 232-5742; Fax Number (617) 277-1656; e-mail address: naecology@aol.com or Georgia A. McDuffie, Field and External Affairs Division (7505C) Office of Pesticide Programs, Environmental Protection Agency, 401 M St., SW., Washington, DC 20460; telephone number: (703) 605-0195; fax number: (703) 308-1850; e-mail address: mcduffie.georgia@epa.gov.

SUPPLEMENTARY INFORMATION:

I. Does this Action Apply to Me?

This action is directed to the public in general. This action may, however, be of interest to Tribes with pesticide programs or pesticide interests. Since other entities may also be interested, the Agency has not attempted to describe all the specific entities that may be affected by this action. If you have any questions regarding the applicability of this action to a particular entity, consult the person listed under FOR FURTHER INFORMATION CONTACT.

II. How Can I Get Additional Information, Including Copies of this Document and Other Related Documents?

1. Electronically. You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/.

2. In person. The Agency has established an administrative record for this meeting under docket control number OPP-00640. The administrative record consists of the documents specifically referenced in this notice, any public comments received during an applicable comment period, and other information related to the Tribal Pesticide Program Council meeting, including any information claimed as Confidential Business Information (CBI). This administrative record includes the documents that are physically located in the docket, as well as the documents that are referenced in those documents. The public version of the administrative record, which includes printed, paper versions of any electronic comments that may be submitted during an applicable comment period, is available for inspection in the Public Information and Records Integrity Branch (PIRIB), Rm. 119, Crystal Mall #2 (CM #2), 1921 Jefferson Davis Hwy., Arlington, VA, from 8:30 a.m. to 4 p.m., Monday through Friday, excluding legal holidays. The PIRIB telephone number is (703) 305-5805.

III. How Can I Request to Participate in this Meeting?

You may submit a request to participate in this meeting through the mail, in person, or electronically. Do not submit any information in your request that is considered CBI. Your request must be received by EPA on or before January 25, 2000. To ensure proper receipt by EPA, it is imperative that you identify docket control number OPP-00640 in the subject line on the first page of your request.

1. By mail. You may submit a request to: Public Information and Records Integrity Branch (PIRIB), Information Resources and Services Division (7502C), Office of Pesticide Programs (OPP), Environmental Protection Agency, Ariel Rios Bldg., 1200 Pennsylvania Ave., NW., Washington, DC 20460.

2. In person or by courier. Public Information and Records Integrity Branch (PIRIB), Information Resources and Services Division (7502C), Office of Pesticide Programs (OPP), Environmental Protection Agency, Rm. 119, CM #2, 1921 Jefferson Davis Hwy., Arlington, VA. The PIRIB is open from 8:30 a.m. to 4 p.m., Monday through Friday, excluding legal holidays. The PIRIB telephone number is (703) 305-5805.

3. Electronically. You may submit your request electronically by e-mail to: “opp-docket@epa.gov.” Do not submit any information electronically that you consider to be CBI. Use WordPerfect 6.1/8.0 or ASCII file format and avoid the use of special characters and any form of encryption. Be sure to identify by docket control number OPP-00640. You may also file a request online at many Federal Depository Libraries.

IV. Background on TPPC:

EPA's Office of Pesticide Programs (OPP) has significantly expanded resources devoted to Tribal programs and projects over the past two years. OPP and EPA's Office of Enforcement and Compliance Assurance (OECA) are working closely with EPA's Regional Offices, Tribes and Tribal organizations to develop and implement pesticide programs and projects meeting individual or regional Tribal needs.

Through a series of meetings with OPP, Tribes across the country have expressed a need for an official tribal pesticide group to address tribal pesticide program and technical issues at the national level. In response to this need, OPP has worked with Tribes and various Tribal organizations to form a national group called the Tribal Pesticide Program Council (TPPC). The TPPC will work closely with EPA Offices and Regions, EPA's Tribal Operations Committee (TOC) and other national groups.

The general membership of the TPPC currently includes approximately 30 Tribes with EPA pesticide programs and a number of Tribes with pesticide interests. The group is led by an Executive Committee of 11 tribal representatives, elected from the general membership.

TPPC issues include pesticide registration, training, enforcement, certification, ground water, disposal and spray drift, among others. The TPPC will also work cooperatively with EPA/OPP to ensure that federal pesticide regulations are effectively applied to Tribal land. The structure of the TPPC should ensure that tribes with less experience can benefit from those with established programs and more experience.

V. Tentative Agenda Topics:

January 25, 2000

Meet and Greet—8:00-9:00 a.m.

Welcome—9:00-9:15 a.m.

Introductions (everyone) and TPPC Creation & Goals—Irv Provost, Interim TPPC Chairperson—9:15-9:45 a.m.

Presentation and Questions & Answers—Tobi Jones, President, State FIFRA Issues and Research Evaluation Group (SFIREG)-9:45-10:15 a.m.

Morning Break—10:15-10:30 a.m.

Greeting—Susan Wayland, Deputy Assistant Administrator, Office of Prevention Pesticides and Toxic Substances—10:30-10:45 a.m.

OPP Overview/Tribal Relationships—Marcia Mulkey, Director, Office of Pesticide Programs—10:45-11:30 a.m.

HQ/Regional/Tribal Relationships—Debbie Kovacs, U.S. EPA Region 8-11:30-12:00 p.m.

Lunch Break—12:00-1:00 p.m.

OECA Overview/Funding/Training—Jack Neylan, Chief, Planning Branch, Office of Enforcement and Compliance Assistance—1:00-2:00 p.m.

Tribal Caucus—Issue Discussion/Confirmation of Exec. Committee and Chairperson—2:00-4:30 p.m. (closed)

Wrap Up (All present)—4:30-5:00 p.m.

January 26, 2000

Meet & Greet—8:00-9:00 a.m.

Welcome—9:00-9:15 a.m.

Federal Inspector Credentials/Training—Jonathan Binder, Attorney Advisor, Office of Enforcement and Compliance Assistance—9:15-10:15 a.m.

Morning Break—10:15-10:30 a.m.

Sections 18 & 24(c)—Office of Enforcement and Compliance and Office of Pesticide Programs Staff—10:30-11:30 a.m.

Lunch Break—11:30-1:00 p.m.

Presentation by Dr. Anna Maria Osorio—EPA/Public Health Service—Proposal for pilot program on Tribal pesticide exposure/health concerns 1:00-1:30 p.m.

Discussion—Training and Technical Assistance Needs of Tribes and Possible Solutions—1:30-2:30 p.m.

Tribal Caucus (closed)—2:30-3:00 p.m.

Wrap Up—3:00-4:00 p.m.

List of Subjects

Environmental protection.

Dated: January 14, 2000.
Jay Ellenberger,
Director, Field and External Affairs Division, Office of Pesticide Programs.

[FR Doc. 00-1548 Filed 1-18-00; 4:49 pm]

BILLING CODE 6560-50-F